DEPARTMENT OF ENERGY

Federal Energy Regulatory Commission

Combined Notice of Filings #1

Take notice that the Commission received the following exempt wholesale generator filings:

Docket Numbers: EG22-75-000.

Applicants: Enel Green Power Roseland Solar, LLC.

Description: Enel Green Power Roseland Solar, LLC submits Request for Commission Certification of Exempt Wholesale Generator Status.

Filed Date: 3/31/22.

Accession Number: 20220331-5292.

Comment Date: 5 p.m. ET 4/21/22.

Docket Numbers: EG22-76-000.

Applicants: 25 Mile Creek Windfarm LLC.

Description: 25 Mile Creek Windfarm LLC submits Request Exempt Wholesale Generator Status.

Filed Date: 3/31/22.

Accession Number: 20220331-5303.

Comment Date: 5 p.m. ET 4/21/22.

Take notice that the Commission received the following electric rate filings:

Docket Numbers: ER20-686-006.

Applicants: Tri-State Generation and Transmission Association, Inc.

Description: Compliance filing: Tri-State Compliance Filing—OATT Settlement to be effective 3/26/2020.

Filed Date: 3/31/22.

Accession Number: 20220331-5218.

Comment Date: 5 p.m. ET 4/21/22.

Docket Numbers: ER21-511-003.

Applicants: Safe Harbor Water Power Corporation.

Description: Refund Report: Refund Report to be effective N/A.

Filed Date: 3/31/22.

Accession Number: 20220331-5143.

Comment Date: 5 p.m. ET 4/21/22.

Docket Numbers: ER21-2520-003.

Applicants: MATL LLP.

Description: Compliance filing: Compliance FIling ER21-2520 to be effective 5/1/2022.

Filed Date: 3/31/22.

Accession Number: 20220331-5039.

Comment Date: 5 p.m. ET 4/21/22.

Docket Numbers: ER21-2524-002.

Applicants: PJM Interconnection, L.L.C.

Description: Compliance filing: Compliance to ER21-2524-001 re: Order 676-1 in RM05-5-027 to be effective 5/1/2022.

Filed Date: 3/31/22.

Accession Number: 20220331-5145.

Comment Date: 5 p.m. ET 4/21/22.

Docket Numbers: ER21-2902-002.

Applicants: MATL LLP.

Description: Compliance filing: Compliance Filing ER21-2902 to be effective 5/1/2022.

Filed Date: 3/31/22.

Accession Number: 20220331-5026.

Comment Date: 5 p.m. ET 4/21/22.

Docket Numbers: ER22-937-000; ER22-938-000.

Applicants: New Market Solar ProjectCo 2, LLC, New Market Solar ProjectCo 1, LLC.

Description: Supplement to January 31, 2022 New Market Solar ProjectCo 1, LLC, et al. tariff filing.

Filed Date: 3/31/22.

Accession Number: 20220331-5238.

Comment Date: 5 p.m. ET 4/21/22.

Docket Numbers: ER22-1424-000.

Applicants: Duke Energy Florida, LLC.

Description: Report Filing: DEF—Supplement to MBR Application to be effective N/A.

Filed Date: 3/29/22.

Accession Number: 20220329-5137.

Comment Date: 5 p.m. ET 4/19/22.

Docket Numbers: ER22-1513-000.

Applicants: Southwest Power Pool, Inc.

Description: § 205(d) Rate Filing: 3926 Evergy Metro Surplus Interconnection GIA to be effective 5/31/2022.

Filed Date: 3/31/22.

Accession Number: 20220331-5008.

Comment Date: 5 p.m. ET 4/21/22.

Docket Numbers: ER22-1514-000.

Applicants: Idaho Power Company.

Description: § 205(d) Rate Filing: Magic Valley Energy LGIAs to be effective 3/23/2022.

Filed Date: 3/31/22.

Accession Number: 20220331-5029.

Comment Date: 5 p.m. ET 4/21/22.

Docket Numbers: ER22-1515-000.

Applicants: New York Independent System Operator, Inc., Niagara Mohawk Power Corporation.

Description: § 205(d) Rate Filing: New York Independent System Operator, Inc. submits tariff filing per 35.13(a)(2)(iii): NYISO-National Grid joint 205 Amended and Restated SGIA2550 Stillwater Solar to be effective 3/21/2022.

Filed Date: 3/31/22.

Accession Number: 20220331-5111.

Comment Date: 5 p.m. ET 4/21/22.

Docket Numbers: ER22-1516-000.

Applicants: Basin Electric Power Cooperative.

Description: Tariff Amendment: Basin Electric Notice of Cancellation of Service Agreement Nos. 4 & 17 to be effective 2/8/2022.

Filed Date: 3/31/22.

Accession Number: 20220331-5129.

Comment Date: 5 p.m. ET 4/21/22.

Docket Numbers: ER22-1517-000.

Applicants: Mid-Atlantic Interstate Transmission, LLC, PJM Interconnection, L.L.C.

Description: § 205(d) Rate Filing: Mid-Atlantic Interstate Transmission, LLC submits tariff filing per 35.13(a)(2)(iii): MAIT submits eight ECSAs, SA Nos. 6300-6302, 6332-6333, 6337, 6340 and 6341 to be effective 5/31/2022.

Filed Date: 3/31/22.

Accession Number: 20220331-5149.

Comment Date: 5 p.m. ET 4/21/22.

Docket Numbers: ER22-1518-000.

Applicants: Laurel Mountain BESS, LLC.

Description: Baseline eTariff Filing: Laurel Mountain BESS, LLC MBR Tariff to be effective 4/1/2022.

Filed Date: 3/31/22.

Accession Number: 20220331-5162.

Comment Date: 5 p.m. ET 4/21/22.

Docket Numbers: ER22-1519-000.

Applicants: Public Service Company of Colorado.

Description: § 205(d) Rate Filing: 2022-03-31 Trans Depreciation Rates to be effective 4/1/2022.

Filed Date: 3/31/22.

Accession Number: 20220331-5167.

Comment Date: 5 p.m. ET 4/21/22.

Docket Numbers: ER22-1520-000.

Applicants: Commonwealth Edison Company, PJM Interconnection, L.L.C.

Description: § 205(d) Rate Filing: Commonwealth Edison Company submits tariff filing per 35.13(a)(2)(iii): ComEd submits revisions to OATT, Attachment M-2 to be effective 5/31/2022.

Filed Date: 3/31/22.

Accession Number: 20220331-5170.

Comment Date: 5 p.m. ET 4/21/22.

Docket Numbers: ER22-1521-000.

Applicants: Sun Streams Expansion, LLC.

Description: Compliance filing: Amended and Restated Shared Facilities Common Ownership Agreement to be effective 4/1/2022.

Filed Date: 3/31/22.

Accession Number: 20220331-5190.

Comment Date: 5 p.m. ET 4/21/22.

Docket Numbers: ER22-1522-000.

Applicants: LS Power Grid California, LLC.

Description: Compliance filing: LS Power Grid California Order No. 864 Compliance Update to be effective 12/23/2020.

Filed Date: 3/31/22.

Accession Number: 20220331-5194.

Comment Date: 5 p.m. ET 4/21/22.

Docket Numbers: ER22-1523-000.

Applicants: Sun Streams 2, LLC.

Description: Compliance filing: New eTariff Baseline and Request for Administrative Cancellation to be effective 4/1/2022.

Filed Date: 3/31/22.

Accession Number: 20220331-5211.

Comment Date: 5 p.m. ET 4/21/22.

Docket Numbers: ER22-1524-000.

Applicants: PacifiCorp.

Description: § 205(d) Rate Filing: ESM Const Agmt Jim Bridger BAA Move to be effective 3/24/2022.

Filed Date: 3/31/22.

Accession Number: 20220331-5227.

Comment Date: 5 p.m. ET 4/21/22.

Docket Numbers: ER22-1525-000.

Applicants: Southwest Power Pool, Inc.

Description: § 205(d) Rate Filing: People's Electric Cooperative, Inc. Formula Rate to be effective 6/1/2022.

Filed Date: 3/31/22.

Accession Number: 20220331-5229.

Comment Date: 5 p.m. ET 4/21/22.

Docket Numbers: ER22-1526-000.

Applicants: Sun Streams 2, LLC.

Description: Compliance filing: Certificate of Concurrence to Amended and Restated Shared Facilities Agreement to be effective 4/1/2022.

Filed Date: 3/31/22.

Accession Number: 20220331-5261.

Comment Date: 5 p.m. ET 4/21/22.

Docket Numbers: ER22-1527-000.

Applicants: Sun Streams PVS, LLC.

Description: Compliance filing: Certificate of Concurrence to Amended and Restated Shared Facilities Agreement to be effective 4/1/2022.

Filed Date: 3/31/22.

Accession Number: 20220331-5283.

Comment Date: 5 p.m. ET 4/21/22.

Docket Numbers: ER22-1528-000.

Applicants: ISO New England Inc., New England Power Pool Participants Committee.

Description: § 205(d) Rate Filing: ISO New England Inc. submits tariff filing per 35.13(a)(2)(iii): ISO-NE and NEPOOL; Rev. to Buyer-Side Market Power Review & Mitigation Reforms to be effective 5/30/2022.

Filed Date: 3/31/22.

Accession Number: 20220331-5296.

Comment Date: 5 p.m. ET 4/21/22.

Docket Numbers: ER22-1529-000.

Applicants: Entergy Arkansas, LLC, Entergy Services, LLC.

Description: § 205(d) Rate Filing: Entergy Arkansas, LLC submits tariff filing per 35.13(a)(2)(iii): Amended EAL-AECC Wholesale Distribution Agreement to be effective 6/1/2022.

Filed Date: 3/31/22.

Accession Number: 20220331-5321.

Comment Date: 5 p.m. ET 4/21/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 31, 2022.
Kimberly D. Bose,
Secretary.

[FR Doc. 2022-07280 Filed 4-5-22; 8:45 am]

BILLING CODE 6717-01-P